DEPARTMENT OF HEALTH AND HUMAN SERVICES

National Committee on Vital and Health Statistics: Meeting Full Committee

Pursuant to the Federal Advisory Committee Act, the Department of Health and Human Services (HHS) announces the following advisory committee meeting.

Name: National Committee on Vital and Health Statistics (NCVHS), Full Committee Meeting.

Time and Date:

November 13, 2013 9:00 a.m.-2:15 p.m. EST.

November 14, 2013 9:30 a.m.-12:00 p.m. EST.

Place: Centers for Disease Control and Prevention, National Center for Health Statistics, 3311 Toledo Road, Auditorium B & C, Hyattsville, Maryland 20782, (301) 458-4524.

Status: Open.

Purpose: The purpose of this meeting is to review the status of NCVHS activities, strategically plan for 2014 objectives and deliverables, and examine the Committee efforts in light of its Guiding Principles and Convergence Framework. The Working Group on HHS Data Access and Use will continue strategic discussions on community health data issues.

The times shown above are for the Full Committee meeting. Subcommittee breakout sessions are scheduled for late in the afternoon on the first day and early morning the second day. Agendas for these breakout sessions will be posted on the NCVHS Web site (URL below).

Contact Person for More Information: Substantive program information may be obtained from Marjorie S. Greenberg, Executive Secretary, NCVHS, National Center for Health Statistics, Centers for Disease Control and Prevention, 3311 Toledo Road, Room 2402, Hyattsville, Maryland 20782, telephone (301) 458-4245. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: October 24, 2013.
James Scanlon,
Deputy Assistant Secretary for Planning and Evaluation (Science and Data Policy), Office of the Assistant Secretary for Planning and Evaluation.

[FR Doc. 2013-25834 Filed 10-30-13; 8:45 am]

BILLING CODE 4151-05-P